DEPARTMENT OF TRANSPORTATION

Federal Aviation Administration

RTCA Government/Industry NextGen Advisory Committee

AGENCY: Federal Aviation Administration (FAA), DOT.

ACTION: Notice of RTCA Charter Renewal.

SUMMARY: The FAA is issuing this notice to advise the public of the renewal of the RTCA Charter (FAA Order 1110.77T) for two years, effective April 2, 2011. The administrator is the sponsor of the committee. The objective of the advisory committee is to seek solutions to issues and challenges involving air transportation concepts, requirements, operational capabilities, and the associated use of technology and related considerations to aeronautical operations that impact the future Air Traffic Management System. RTCA provides the following two categories of recommendations to the FAA: Broad gauged policy and investment priority recommendations used by FAA when considering policy and program decisions; and minimum performance standards, reports, and guidance documents used by the FAA in regulatory decisions and rulemaking. Government regulatory and procurement practices reference or use RTCA standards (with or without change). The Secretary of Transportation has determined that that information and use of committee are necessary in the public interest in connection with the performance of duties imposed on the FAA by law.

FOR FURTHER INFORMATION CONTACT: RTCA Secretariat, 1828 L Street, NW., Suite 805, Washington, DC, 20036; telephone (202) 833-9339; fax (202) 833-9434; Web site http://www.rtca.org or the FAA Business Operations Group, NextGen and Operations Planning, 800 Independence Avenue, SW., Washington, DC: telephone (202) 493-4409; fax (202) 267-5071.

SUPPLEMENTARY INFORMATION: Steering Committee and Special Committee meetings are open to the public and announced in the Federal Register, except as authorized by Section 10(d) of the Federal Advisory Committee Act.

Issued in Washington, DC, on March 15, 2011.
Kathy Hitt,
RTCA Advisory Committee.

[FR Doc. 2011-6525 Filed 3-17-11; 8:45 am]

BILLING CODE 4910-13-P